DEPARTMENT OF THE INTERIOR

Fish and Wildlife Service

[FWS-R3-ES-2009-N0055; 30120-1113-0000-F6]

Endangered and Threatened Wildlife and Plants; Permit Applications

AGENCY: Fish and Wildlife Service, Interior.

ACTION: Notice of availability of permit applications; request for comments.

SUMMARY: We, the U.S. Fish and Wildlife Service, invite the public to comment on the following applications to conduct certain activities with endangered species. With some exceptions, the Endangered Species Act (Act) prohibits activities with endangered and threatened species unless a Federal permit allows such activity. The Act requires that we invite public comment before issuing these permits.

DATES: We must receive any written comments on or before April 17, 2009.

ADDRESSES: Send written comments to the Regional Director, Attn: Peter Fasbender, U.S. Fish and Wildlife Service, Ecological Services, 1 Federal Drive, Fort Snelling, MN 55111-4056; electronic mail, permitsR3ES@fws.gov.

FOR FURTHER INFORMATION CONTACT: Peter Fasbender, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations at 50 CFR part 17. Submit your written data, comments, or request for a copy of the complete application to the address shown in ADDRESSES. When submitting comments, please refer to the appropriate permit application number.

Permit Applications

Permit Application Number TE206783

Applicant: Marlo Perdicas, Marshallville, Ohio.

The applicant requests a permit to take (capture and release) Indiana bats (Myotis sodalis) and gray bats (Myotis grisescens) across the range of the species for the purpose of population monitoring and conservation, habitat management, and data collection for monitoring of white nose syndrome. Proposed activities are for the purpose of enhancement of survival of the species in the wild.

Permit Application Number TE206781

Applicant: Ecological Specialists, Inc., O'Fallon, Missouri.

The applicant requests a permit renewal to take (capture and release) clubshell (Pleurobema clava), fanshell (Cyprogenia stegaria), fat pocketbook (Potamilus capax), Higgins' eye pearlymussel (Lampsilis higginsii), northern riffleshell (Epioblasma torulosa rangiana), orange-foot pimpleback pearlymussel (Plethobasus cooperianus), pink mucket pearlymussel (Lampsilis abrupta), and scaleshell (Leptodea leptodon),; to take (capture and relocate) Higgins' eye pearlymussel; and to take (collect dead specimens, capture and release) winged mapleleaf mussel (Quadrula fragosa) to determine presence or absence of the species and to relocate individuals that may be in danger of injury or stranding. Proposed activities are aimed at enhancement of the survival of the species in the wild.

Permit Application Number TE206778

Applicant: Field Supervisor, U.S. Fish and Wildlife Service, Twin Cities, Minnesota.

The applicant requests a permit renewal to take (capture and release, capture and relocate) Higgins' eye pearlymussel and winged mapleleaf mussel throughout the States of Illinois, Iowa, Minnesota, and Wisconsin for scientific study in the interest of recovery of the species. Activities include population monitoring and assessment, relocation, and mussel propagation activities at the Genoa National Fish Hatchery and in conjunction with State partners. Activities are for the enhancement of propagation and survival of the species in the wild.

Permit Application Number TE207149

Applicant: Sarah Bradley, Salem, Missouri.

The applicant requests a permit to take (capture and release) Indiana bats and gray bats throughout the Mark Twain National Forest and adjoining properties. Studies include presence or absence surveys, studies to document habitat use, and population monitoring for enhancement of recovery and survival of the species in the wild.

Permit Application Number TE207150

Applicant: Bradley Steffen, Cincinnati, Ohio.

The applicant requests a permit to take (capture and release) Indiana bats and gray bats throughout the range of the species. The activities proposed under this permit application include presence or absence surveys, studies to document habitat use, population monitoring, and evaluation of potential impacts of proposed projects. Activities are proposed for enhancement of the survival of the species in the wild.

Permit Application Number TE207154

Applicant: Michigan Department of Natural Resources, Lansing, Michigan.

The applicant requests a permit to take Karner blue butterflies within the State of Michigan on State-owned lands. Take will occur during the implementation of land management practices designed to maximize the suitability of habitat for the species that may incidentally take a limited number of individual eggs, larvae, or adult butterflies, but will result in an increase in population numbers overall. Activities are proposed to enhance the recovery and survival of the species in the wild.

Permit Application Number TE207178

Applicant: Amy Halsall, Woodridge, Illinois.

The applicant requests a permit to take (capture and release) Indiana bats within Illinois and Indiana. Proposed activities include presence or absence surveys, studies to document habitat use, population monitoring, and evaluation of project impacts in the interest of recovery and enhancement of the survival of the species in the wild.

Permit Application Number TE207180

Applicant: Division of Wildlife, Ohio Department of Natural Resources, Columbus, Ohio.

The applicant requests a permit to take (capture, breed, and release) Karner blue butterflies within the States of Ohio and Michigan. Activities include captive rearing at the Toledo Zoo and reintroduction of reared stock into the Oak Openings of Lucas County, Ohio. Activities are aimed at recovery and enhancement of the survival of the species in the wild.

Permit Application Number TE207191

Applicant: Natural Resources Research Institute, University of Minnesota, Duluth, Minnesota.

The applicant requests a permit take (capture, handle, and release) Canada lynx (Lynx canadensis) throughout the State of Minnesota. Proposed activities include evaluation of population health, habitat use, and survival. These proposed activities are aimed at enhancement of the survival of the species in the wild.

Permit Application Number TE207523

Applicant: The Nature Conservancy in Michigan, Lansing, Michigan.

The applicant requests a permit to take Mitchell's satyr butterfly (Neonympha mitchellii mitchellii) in Michigan for the purpose of population monitoring, evaluation of habitat suitability and habitat management to promote recovery of the species. Proposed activities are aimed at enhancement of survival of the species in the wild.

Permit Application Number TE207526

Applicant: U.S. Geological Survey, Columbia Environmental Science Center, Columbia, Missouri.

The applicant requests a permit to take the following fish species: Pallid Sturgeon (Scaphirhynchus albus), Topeka Shiner (Notropis topeka), and Neosho Madtom (Noturus placidus). Proposed activities include capture and release, propagation activities, population studies, and scientific research related to recovery of the species. Activities are aimed at enhancement of propagation and survival of the species in the wild.

Permit Application Number TE207560

Applicant: Merrill Tawse, Mansfield, Ohio.

The applicant requests a permit to take (capture and release) Indiana bats within Indiana, Kentucky, Ohio, Pennsylvania, and West Virginia. Proposed activities include presence or absence surveys, studies to document habitat use, and population monitoring in the interest of recovery and enhancement of the survival of the species in the wild.

Public Comments

We solicit public review and comments on these permit applications. Please refer to the permit number when you submit comments. Comments and materials we receive are available for public inspection, by appointment, during normal business hours at the address shown in the ADDRESSES section. Before including your address, phone number, e-mail address, or other personal identifying information in your comment, you should be aware that your entire comment—including your personal identifying information—may be made publicly available at any time. While you can ask us in your comment to withhold your personal identifying information from public review, we cannot guarantee that we will be able to do so.

National Environmental Policy Act (NEPA)

In compliance with NEPA (42 U.S.C. 4321 et seq.), we have made an initial determination that the activities proposed in these permits are categorically excluded from the requirement to prepare an environmental assessment or environmental impact statement (516 DM6 Appendix 1, 1.4C(1)).

Dated: March 3, 2009.
Lynn M. Lewis,
Assistant Regional Director, Ecological Services, Region 3.

[FR Doc. E9-5804 Filed 3-17-09; 8:45 am]

BILLING CODE 4310-55-P